DEPARTMENT OF LABOR

Employment and Training Administration

[TA-W-64,930]

Kaiser Aluminum, Greenwood, SC; Notice of Termination of Investigation

Pursuant to Section 221 of the Trade Act of 1974, as amended, an investigation was initiated on January 22, 2009 in response to a petition filed on behalf of workers of Kaiser Aluminum, Greenwood, South Carolina.

The petitioner has requested that the petition be withdrawn. Therefore, the investigation under this petition has been terminated.

Signed at Washington, DC, this 16th day of April 2009.
Linda G. Poole,
Certifying Officer, Division of Trade Adjustment Assistance.

[FR Doc. E9-10901 Filed 5-8-09; 8:45 am]

BILLING CODE 4510-FN-P